DEPARTMENT OF THE INTERIOR

National Park Service

[NPS-WASO-NAGPRA-25289; PPWOCRADN0-PCU00RP14.R50000]

Notice of Inventory Completion: Wisconsin Historical Society, Madison, WI

AGENCY: National Park Service, Interior.

ACTION: Notice.

SUMMARY: The Wisconsin Historical Society has completed an inventory of human remains and associated funerary objects, in consultation with the appropriate Indian Tribes or Native Hawaiian organizations, and has determined that there is no cultural affiliation between the human remains and associated funerary objects and any present-day Indian Tribes or Native Hawaiian organizations. Representatives of any Indian Tribe or Native Hawaiian organization not identified in this notice that wish to request transfer of control of these human remains and associated funerary objects should submit a written request to the Wisconsin Historical Society. If no additional requestors come forward, transfer of control of the human remains and associated funerary objects to the Indian Tribes or Native Hawaiian organizations stated in this notice may proceed.

DATES: Representatives of any Indian Tribe or Native Hawaiian organization not identified in this notice that wish to request transfer of control of these human remains and associated funerary objects should submit a written request with information in support of the request to the Wisconsin Historical Society at the address in this notice by May 21, 2018.

ADDRESSES: Jennifer Kolb, Wisconsin Historical Society, 816 State Street Madison, WI 53706, telephone (608) 264-6434, email Jennifer.Kolb@wisconsinhistory.org.

SUPPLEMENTARY INFORMATION: Notice is here given in accordance with the Native American Graves Protection and Repatriation Act (NAGPRA), 25 U.S.C. 3003, of the completion of an inventory of human remains and associated funerary objects under the control of the Wisconsin Historical Society, Madison, WI. The human remains and associated funerary objects were removed from multiple sites in Crawford County, WI.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by the Wisconsin Historical Society professional staff in consultation with representatives of the Forest County Potawatomi Community, Wisconsin; Ho-Chunk Nation of Wisconsin; Lac du Flambeau Band of Lake Superior Chippewa Indians of the Lac du Flambeau Reservation of Wisconsin; Menominee Indian Tribe of Wisconsin; and Upper Sioux Community, Minnesota.

History and Description of the Remains

In 1937, human remains representing, at minimum, one individual were removed from Rock Shelter #4 (47-CR-0191) in Crawford County, WI. The site was first documented in 1937, by Leland Cooper who was associated with the Wisconsin Historical Society at the time. A Wisconsin Historical Society card catalog lists 97 artifacts recovered as a “general sample from 4-10 inches deep in floor of rockshelter” were collected by Cooper in 1937 and accessioned by the Wisconsin Historical Society in 1978. Later analysis of the collection revealed human remains that represent one individual of indeterminate age and sex. There is no evidence to suggest the artifacts collected and accessioned at the same time are funerary objects associated with the human remains. No known individuals were identified. No associated funerary objects are present.

In 1990, human remains representing, at minimum, one individual were removed from the Copper Creek Mound Group (47-CR-0484) in Crawford County, WI. A local informant contacted the Wisconsin Burial Site Preservation Office (BSPO) to report that the site had recently been looted, and representatives of the BPSO visited the site. They conducted a pedestrian survey of the mounds and collected a small group of human remains that were visible on the surface. The few human remains collected are very fragmentary and represent one individual of indeterminate age and sex. No associated funerary objects were found. No known individuals were identified.

In 1993, human remains representing, at minimum, one individual were removed from Highway 35 (47-CR-0731) in Crawford County, WI. A cranium was found resting next to a cement retaining wall near the property of Thomas and Alleine La Chine near Prairie du Chien. The La Chines contacted the Crawford County Sheriff's Department upon their discovery, and the police subsequently contacted the Wisconsin Burial Sites Preservation Office (BSPO). A representative from the BPSO investigated the site but did not locate any other human remains or artifacts. The human remains were transferred from the Crawford County Sheriff's Department to the Wisconsin Historical Society. The cranium was later determined to be from an adult female with attributes of mixed European-American and Native American ancestry. No known individuals were identified. No associated funerary objects are present.

In 1976, human remains representing, at minimum, two individuals were removed from McDonald Graves (47-CR-0166) in Crawford County, WI. The human remains were discovered during a sewer construction project in an alley located in the city of Prairie du Chien. Homeowners initially contacted the Prairie du Chien Police Department, who immediately contacted the Wisconsin Historical Society (WHS). Representatives from the WHS visited the site within days and conducted an excavation in conjunction with the Prairie du Chien Police of what appeared to be profiles of two coffins. The Prairie du Chien Police Department originally took custody of the human remains and artifacts, but transferred them to the WHS in 1976. Skeletal analysis later determined the human remains represent an adult male and an adult female, both of Native American ancestry. No known individuals were identified. The one associated funerary object is a group of 20 coffin nails and fragments of wood.

In 1960, human remains representing, at minimum, one individual were removed from the Miller Site (47-CR-0001) in Crawford County, WI. The Miller Site was investigated in 1960 and 1961 by the Wisconsin Historical Society's Highway Archaeology Program under a cooperative agreement with the Wisconsin Department of Transportation. During the 1960 excavations, the remains of a single adult male were excavated from a burial pit located in the southern portion of the investigated area. No known individuals were identified. No associated funerary objects are present.

At an unknown date, human remains representing, at minimum, two individuals were removed from the Waterfront Site (47-CR-0436) in Crawford County, WI. Local resident J.P. Albee discovered human remains representing two probable male individuals on St. Feriole Island along the East Channel of the Mississippi River in the city of Prairie du Chien. Mr. Albee donated the human remains to the Wisconsin Historical Society in 1912. No known individuals were identified. No associated funerary objects are present.

Determinations Made by the Wisconsin Historical Society

Officials of the Wisconsin Historical Society have determined that:

• Pursuant to 25 U.S.C. 3001(9), the human remains described in this notice are Native American based on Wisconsin Historical Society records, burial location, archeological context, oral histories, and skeletal analysis.

• Pursuant to 25 U.S.C. 3001(9), the human remains described in this notice represent the physical remains of eight individuals of Native American ancestry.

• Pursuant to 25 U.S.C. 3001(3)(A), the one object described in this notice is reasonably believed to have been placed with or near individual human remains at the time of death or later as part of the death rite or ceremony.

• Pursuant to 25 U.S.C. 3001(2), a relationship of shared group identity cannot be reasonably traced between the Native American human remains and associated funerary objects and any present-day Indian Tribe.

• According to final judgments of the Indian Claims Commission or the Court of Federal Claims, the land from which the Native American human remains and associated funerary objects were removed is the aboriginal land of the Ho-Chunk Nation of Wisconsin and the Winnebago Tribe of Nebraska.

• Treaties, Acts of Congress, or Executive Orders, indicate that the land from which the Native American human remains and associated funerary objects were removed is the aboriginal land of the Bad River Band of the Lake Superior Tribe of Chippewa Indians of the Bad River Reservation, Wisconsin; Bay Mills Indian Community, Michigan; Chippewa Cree Indians of the Rocky Boy's Reservation, Montana (previously listed as the Chippewa-Cree Indians of the Rocky Boy's Reservation, Montana); Grand Traverse Band of Ottawa and Chippewa Indians, Michigan; Ho-Chunk Nation of Wisconsin; Keweenaw Bay Indian Community, Michigan; Lac Courte Oreilles Band of Lake Superior Chippewa Indians of Wisconsin; Lac du Flambeau Band of Lake Superior Chippewa Indians of the Lac du Flambeau Reservation of Wisconsin; Lac Vieux Desert Band of Lake Superior Chippewa Indians of Michigan; Minnesota Chippewa Tribe, Minnesota (Six component reservations: Bois Forte Band (Nett Lake); Fond du Lac Band; Grand Portage Band; Leech Lake Band; Mille Lacs Band; White Earth Band); Ottawa Tribe of Oklahoma; Red Cliff Band of Lake Superior Chippewa Indians of Wisconsin; Red Lake Band of Chippewa Indians, Minnesota; Saginaw Chippewa Indian Tribe of Michigan; Sault Ste. Marie Tribe of Chippewa Indians, Michigan; Sokaogon Chippewa Community, Wisconsin; St. Croix Chippewa Indians of Wisconsin; Turtle Mountain Band of Chippewa Indians of North Dakota; and the Winnebago Tribe of Nebraska (hereafter referred to as “The Aboriginal Land Tribes”).

• Pursuant to 43 CFR 10.11(c)(1), the disposition of the human remains and associated funerary objects may be to The Aboriginal Land Tribes.

Additional Requestors and Disposition

Representatives of any Indian Tribe or Native Hawaiian organization not identified in this notice that wish to request transfer of control of these human remains and associated funerary objects should submit a written request with information in support of the request to Jennifer Kolb, Wisconsin Historical Society, 816 State Street, Madison, WI 53706, telephone (608) 264-6434, email Jennifer.Kolb@wisconsinhistory.org, by May 21, 2018. After that date, if no additional requestors have come forward, transfer of control of the human remains and associated funerary objects to The Aboriginal Land Tribes may proceed.

The Wisconsin Historical Society is responsible for notifying The Aboriginal Land Tribes; Forest County Potawatomi Community, Wisconsin; Menominee Indian Tribe of Wisconsin; and Upper Sioux Community, Minnesota, that this notice has been published.

Dated: March 22, 2018.
Melanie O'Brien,
Manager, National NAGPRA Program.

[FR Doc. 2018-08176 Filed 4-18-18; 8:45 am]

BILLING CODE 4312-52-P